DEPARTMENT OF DEFENSE

Department of the Army

Notice of Availability of the Draft Programmatic Environmental Impact Statement (PEIS) for the Brigade Combat Team Transformation at Fort Irwin, CA

Correction

In notice document E8-15185 appearing on page 38999 in the issue of Tuesday, July 8, 2008, make the following corrections:

1. On page 38999, in the second column, under the FOR FURTHER INFORMATION CONTACT heading, in the second line, “Muhammad Ban” should read “Muhammad Bari”.

2. On the same page, in the same column, under the same heading, in the fourth line, “Muhammad.ban@us.army.mil.” should read “Muhammad.bari@us.army.mil.”.

ÿ7E

[FR Doc. Z8-15185 Filed 7-23-08; 8:45 am]

BILLING CODE 1505-01-D

DEPARTMENT OF LABOR

Employee Benefits Security Administration

Proposed Extension of Information Collection Request Submitted for Public Comment; Proposed Amendment to PTE 84-14 for Plan Asset Transactions Determined by Independent Qualified Professional Asset Managers

Correction

In notice document E8-15848 appearing on page 40384 in the issue of Monday, July 14, 2008 make the following correction:

In the first column, in the second paragraph, in the DATES section is corrected to read: “Written comments must be submitted to the office shown in the ADDRESSES section on or before September 12, 2008.”

[FR Doc. Z8-15848 Filed 7-23-08; 8:45 am]

BILLING CODE 1505-01-D